DEPARTMENT OF TRANSPORTATION

Federal Aviation Administration

14 CFR Part 39

[Docket No. 2003-CE-20-AD]

RIN 2120-AA64

Airworthiness Directives; Dornier Luftfahrt GMBH Models 228-100, 228-101, 228-200, 228-201, 228-202, and 228-212 Airplanes

AGENCY: Federal Aviation Administration, DOT.

ACTION: Notice of proposed rulemaking (NPRM).

SUMMARY: This document proposes to adopt a new airworthiness directive (AD) that would apply to certain Dornier Luftfahrt GMBH (Dornier) Models 228-100, 228-101, 228-200, 228-201, 228-202, and 228-212 airplanes that have electrical cabin/cockpit heater option P05 or option P09 installed. This proposed AD would require you to modify the cockpit and cabin auxiliary heating wiring. This proposed AD is the result of mandatory continuing airworthiness information (MCAI) issued by the airworthiness authority for Germany. The actions specified by this proposed AD are intended to correct problems with the current design of the heater wiring, which could result in failure of the auxiliary cabin heater. Such failure could lead to overheating and smoke in the cockpit.

DATES: The Federal Aviation Administration (FAA) must receive any comments on this proposed rule on or before June 23, 2003.

ADDRESSES: Submit comments to FAA, Central Region, Office of the Regional Counsel, Attention: Rules Docket No. 2003-CE-20-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-20-AD” in the subject line. If you send comments electronically as attached electronic files, the files must be formatted in Microsoft Word 97 for Windows or ASCII text.

You may get service information that applies to this proposed AD from Dornier Luftfahrt GMBH, Customer Support, P.O. Box 1103, D-82230 Wessling, Federal Republic of Germany; telephone: (08153) 300; facsimile: (08153) 304463. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I comment on this proposed AD? The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2003-CE-20-AD.” We will date stamp and mail the postcard back to you.

Discussion

What events have caused this proposed AD? The Luftfahrt-Bundesamt (LBA), which is the airworthiness authority for Germany, recently notified FAA that an unsafe condition may exist on certain Dornier Models 228-100, 228-101, 228-200 and 228-201, 228-202, and 228-212 airplanes. The LBA reports an occurrence of stuck contacts of the power relay of the heating circuit to the auxiliary cabin heater, Dornier option P05 or P09.

What are the consequences if the condition is not corrected? Failure of the auxiliary cabin heater could lead to overheating and smoke in the cockpit.

Is there service information that applies to this subject? Dornier has issued Service Bulletin No. 228-249, Revision No. 1, dated November 19, 2001.

What are the provisions of this service information? The service bulletin includes procedures for modifying the auxiliary cabin heater wiring.

What action did the LBA take? The LBA classified this service bulletin as mandatory and issued German AD Number 2002-264, dated September 19, 2002, in order to ensure the continued airworthiness of these airplanes in Germany.

Was this in accordance with the bilateral airworthiness agreement? These airplane models are manufactured in Germany and are type certificated for operation in the United States under the provisions of section 21.29 of the Federal Aviation Regulations (14 CFR 21.29) and the applicable bilateral airworthiness agreement.

Pursuant to this bilateral airworthiness agreement, the LBA has kept FAA informed of the situation described above.

The FAA's Determination and an Explanation of the Provisions of This Proposed AD

What has FAA decided? The FAA has examined the findings of the LBA; reviewed all available information, including the service information referenced above; and determined that:

—The unsafe condition referenced in this document exists or could devlop on other Dornier Models 228-100, 228-101, 228-200 and 228-201, 228-202, and 228-212 airplanes of the same type design that are on the U.S. registry;

—The actions specified in the previously-referenced service information should be accomplished on the affected airplanes; and

—AD action should be taken in order to correct this unsafe condition.

What would this proposed AD require? This proposed AD would require you to incorporate the actions in the previously-referenced service bulletin.

How does the revision to 14 CFR part 39 affect this proposed AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes would this proposed AD impact? We estimate that this proposed AD affects 14 airplanes in the U.S. registry.

What would be the cost impact of this proposed AD on owners/operators of the affected airplanes? We estimate the following costs to accomplish this proposed modification. We have no way of determining the number of airplanes that may need such modification:

Labor cost | Parts cost | Total cost per airplane
3 workhours × $60 per hour = $180 | $95. | $275.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Dornier Luftfahrt GMBH: Docket No. 2003-CE-20-AD.

(a) What airplanes are affected by this AD? This AD affects Models 228-100, 228-101, 228-200, 228-201, 228-202, and 228-212 airplanes, all serial numbers, that are:

(1) certificated in any category; and

(2) equipped with electrical cabin/cockpit heater option P05 or option P09 auxiliary cabin heater(s) (32HA/35HA or 51HA/52HA).

(b) Who must comply with this AD? Anyone who wishes to operate any of the airplanes identified in paragraph (a) of this AD must comply with this AD.

(c) What problem does this AD address? The actions specified by this AD are intended to correct problems with the current design of the heater wiring, which could result in failure of the auxiliary cabin heater. Such failure could lead to overheating and smoke in the cockpit.

(d) What actions must I accomplish to address this problem? To address this problem, you must accomplish the following:

Actions | Compliance | Procedures
(1) Modify any installed cockpit and cabin auxiliary cabin heater (32HA/35HA or 51HA/52HA) heating wiring | Within the next 50 hours time-in-service (TIS) after the effective date of this AD, unless already accomplished. Removal from the airplane of any unmodified auxiliary cabin heater (32HA/35HA or 51HA/52HA) or 51HA/52HA) is terminating action for this AD | In accordance with Fairchild Dornier Dornier 228 Service Bulletin No. SB-228-249, Revision No. 1, dated November 19, 2001, and following standard practices.
(2) Do not install any auxiliary cabin heater (32HA/35HA or 51HA/52HA) (or FAA-approved equivalent part number) unless it has been modified as required in paragraph (d)(1) of this AD | As of the effective date of this AD | Not applicable.

(e) Can I comply with this AD in any other way? To use an alternative method of compliance or adjust the compliance time, follow the procedures in 14 CFR 39.19. Send these requests to the Manager, Standards Office, Small Airplane Directorate. For information on any already approved alternative methods of compliance, contact Karl Schletzbaum, Aerospace Engineer, FAA, Small Airplane Directorate, 901 Locust, Room 301, Kansas City, Missouri 64106; telephone: (816) 329-4146; facsimile: (816) 329-4090.

(f) How do I get copies of the documents referenced in this AD? You may get copies of the documents referenced in this AD from Dornier Luftfahrt GmbH, Customer Support, P.O. Box 1103, D-82230 Wessling, Federal Republic of Germany; telephone: (08153) 300; facsimile: (08153) 304463. You may view these documents at FAA, Central Region, Office of the Regional Counsel, 901 Locust, Room 506, Kansas City, Missouri 64106.

Note: The subject of this AD is addressed in German AD Number 2002-264, dated September 19, 2002.

Issued in Kansas City, Missouri, on May 9, 2003.
James E. Jackson,
Acting Manager, Small Airplane Directorate, Aircraft Certification Service.

[FR Doc. 03-12112 Filed 5-14-03; 8:45 am]

BILLING CODE 4910-13-P